DEPARTMENT OF TRANSPORTATION

Federal Railroad Administration

Notice of Funding Opportunity for the Federal-State Partnership for Intercity Passenger Rail Program

AGENCY: Federal Railroad Administration (FRA), Department of Transportation (DOT).

ACTION: Notice of Funding Opportunity (NOFO or notice).

SUMMARY: This notice (FSP-National) details the application requirements and procedures to obtain grant funding for projects not located on the Northeast Corridor under the Federal-State Partnership for Intercity Passenger Rail Program (FSP Program) for Fiscal Year 2022. The FSP-National notice solicits applications for FSP funds made available by the Consolidated Appropriations Act, 2022, and the Infrastructure Investment and Jobs Act. The opportunity described in this notice is made available under Assistance Listings Number 20.326, “Federal-State Partnership for Intercity Passenger Rail.”

DATES: Applications for funding under this solicitation are due no later than 5 p.m. ET, March 7, 2023. Applications that are incomplete or received after 5 p.m. ET, on March 7, 2023 will not be considered for funding. See Section D of this notice for additional information on the application process.

ADDRESSES: Applications must be submitted via www.Grants.gov. Only applicants who comply with all submission requirements described in this notice and submit applications through www.Grants.gov will be eligible for award. For any supporting application materials that an applicant is unable to submit via www.Grants.gov (such as oversized engineering drawings), an applicant may submit an original and two (2) copies to Deborah Kobrin, Office of Rail Program Development, Federal Railroad Administration, 1200 New Jersey Ave SE, Washington, DC 20590; or Mr. Sergio Coronado, Office of Rail Program Development, Federal Railroad Administration, 55 Broadway, Cambridge, MA 02142. However, due to delays caused by enhanced screening of mail delivered via the U.S. Postal Service, applicants are advised to use other means of conveyance (such as courier service) to assure timely receipt of materials before the application deadline.

FOR FURTHER INFORMATION CONTACT: For further information concerning this Notice, please contact the FRA NOFO Support program staff via email at FRA-NOFO-Support@dot.gov. If additional assistance is needed, you may contact Mr. Douglas Gascon, Office of Policy and Planning, Federal Railroad Administration, 1200 New Jersey Avenue SE, Room W38-212, Washington, DC 20590; email: douglas.gascon@dot.gov; or telephone: 202-493-2039; or Mr. Sergio Coronado, Office of Rail Program Development, Federal Railroad Administration, 55 Broadway, Cambridge, MA 02142; email: Sergio.Coronado@dot.gov; telephone: 617-571-1213; or Ms. Deborah Kobrin, Office of Rail Program Development, Federal Railroad Administration, 1200 New Jersey Ave SE, Room W33-311, Washington, DC 20590; email: deborah.kobrin@dot.gov; telephone: 202-493-0765.

SUPPLEMENTARY INFORMATION: Notice to applicants: FRA recommends that applicants read this notice in its entirety prior to preparing application materials. Definitions of key terms used throughout the NOFO are provided in Section A(2) below. These key terms are capitalized throughout the NOFO. There are several administrative and specific eligibility requirements described herein with which applicants must comply. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

H. Other Information

A. Program Description

1. Overview

Our nation's rail network is a critical component of the U.S. transportation system and economy. The FSP Program provides a Federal funding opportunity to improve American passenger rail assets to expand or establish new intercity passenger rail service, including privately operated intercity passenger rail service if an eligible applicant is involved, reduce the state of good repair backlog, improve performance, and enhance rail safety. The purpose of this notice is to solicit applications for projects not located on the Northeast Corridor (NEC) through the competitive FSP Program.

This FSP-National NOFO describes funding available, application submission requirements, and the selection and evaluation criteria for projects not located on the Northeast Corridor. The Infrastructure Investment and Jobs Act (Pub. L. 117-58, November 14, 2021) (IIJA) provided distinct selection and evaluation criteria for projects located on the NEC and for projects not located on the NEC. FRA will publish a separate Notice for projects located on the NEC. Those projects are not eligible for funding under this announcement.

The FSP Program is authorized in Sections 22106 and 22307 of the IIJA, codified at 49 U.S.C. 24911, and this NOFO is funded by IIJA supplemental appropriations as provided in Title VIII of Division J of IIJA, and the Consolidated Appropriations Act, 2022 (Pub. L. 117-103) (Appropriations Act). The opportunity described in this notice is made available under Assistance Listings Number 20.326, “Federal-State Partnership for Intercity Passenger Rail.”

Discretionary grant awards, funded through the FSP Program, will support projects that improve safety, economic strength and global competitiveness, equity, climate and sustainability, and transformation, consistent with the U.S. Department of Transportation's (DOT) strategic goals.¹

¹ DOT Strategic Plan FY 2022-2026 (March 2022) at https://www.transportation.gov/sites/dot.gov/files/2022-04/US_DOT_FY2022-26_Strategic_Plan.pdf.

The FSP Program will be implemented, as appropriate and consistent with law, in alignment with the priorities in Executive Order 14052, Implementation of the Infrastructure Investment and Jobs Act (86 FR 64355), which are to invest public dollars efficiently, advance equity, promote the competitiveness of the U.S. economy, improve job opportunities by focusing on high labor standards, strengthen infrastructure resilience to all hazards including climate change, and effectively coordinate with State, local, Tribal, and territorial government partners.

FRA intends to use the FSP Program to support the creation of good-paying jobs with the free and fair choice to join a union and the incorporation of strong labor standards and training and placement programs, especially registered apprenticeships, and local hire agreements, in project planning and development. Projects that incorporate such planning considerations are expected to support a strong economy and labor market, in alignment with the priorities in Executive Order 14025, Worker Organizing and Empowerment (86 FR 22829) and Executive Order 14052, Implementation of the Infrastructure Investment and Jobs Act (86 FR 64335). Section E describes job creation and labor considerations that an applicant can undertake and FRA will consider during the review of applications.

In addition, FRA seeks to fund projects under the FSP Program that reduce greenhouse gas emissions and are designed with specific elements to address climate change impacts, in alignment with the priorities in Executive Order 14008, Tackling the Climate Crisis at Home and Abroad (86 FR 7619). Specifically, FRA is looking to award projects that align with the President's greenhouse gas reduction goals, promote energy efficiency, support fiscally responsible land use and efficient transportation design, increase climate resilience, support domestic manufacturing, and reduce pollution.

FRA also seeks to fund projects that address environmental justice, particularly for communities that disproportionally experience climate change-related consequences. Environmental justice, as defined by the Environmental Protection Agency (EPA), is the fair treatment and meaningful involvement of all people regardless of race, color, national origin, or income, with respect to the development, implementation, and enforcement of environmental laws, regulations, and policies. As part of the implementation of Executive Order 14008, FRA seeks to fund projects that, to the extent possible, target at least 40 percent of resources and benefits towards low-income communities, disadvantaged communities, communities underserved by affordable transportation, or overburdened ² communities. For more information, please consult DOT's disadvantaged communities mapping tool to determine if a proposed project impacts disadvantaged communities: Transportation Disadvantaged Census Tracts at: https://usdot.maps.arcgis.com/apps/dashboards/d6f90dfcc8b44525b04c7ce748a3674a.

² Overburdened Community means minority, low-income, tribal, or indigenous populations or geographic locations in the United States that potentially experience disproportionate environmental harms and risks. This disproportionality can be as a result of greater vulnerability to environmental hazards, lack of opportunity for public participation, or other factors. Increased vulnerability may be attributable to an accumulation of negative or lack of positive environmental, health, economic, or social conditions within these populations or places. The term describes situations where multiple factors, including both environmental and socio-economic stressors, may act cumulatively to affect health and the environment and contribute to persistent environmental health disparities.

Additionally, FRA seeks to fund projects that proactively address racial equity and barriers to opportunity, including automobile dependence as a form of barrier, or redress prior inequities and barriers to opportunity, in alignment with the priorities in Executive Order 13985, Advancing Racial Equity and Support for Underserved Communities Through the Federal Government (86 FR 7009). Section E describes racial equity considerations that an applicant can undertake and FRA will consider during the review of applications.

Furthermore, consistent with the Department's Rural Opportunities to Use Transportation for Economic Success (ROUTES) initiative, the Department seeks to award funding to rural projects that address deteriorating conditions and disproportionately high fatality rates and transportation costs in rural communities.

Section E of this NOFO, which outlines the grant selection criteria, describes the process for selecting projects that further these goals. Section F.3 describes progress and performance reporting requirements for selected projects.

2. Definitions of Key Terms

Terms defined in this section are capitalized throughout this notice.

a. “Benefit-Cost Analysis” (or “Cost-Benefit Analysis”) is a systematic, data-driven, and transparent analysis comparing monetized project benefits and costs, using a no-build baseline and properly discounted present values, including concise documentation of the assumptions and methodology used to produce the analysis, a description of the baseline, data sources used to project outcomes, values of key input parameters, basis of modeling (including spreadsheets, technical memos, etc.), and presentation of the calculations in sufficient detail and transparency to allow the analysis to be reproduced and sensitivity of results evaluated by FRA. Please refer to the Benefit-Cost Analysis (BCA) Guidance for Discretionary Grant Programs prior to preparing a BCA at https://www.transportation.gov/office-policy/transportation-policy/benefit-cost-analysis-guidance. In addition, please refer to the BCA webinar on FRA's website for rail-specific examples of how to apply the BCA Guidance for Discretionary Grant Programs to FSP-National applications.³

³ https://railroads.dot.gov/rail-network-development/training-guidance/webinars-0.

b. “Capital Cost Estimate” means an estimate of the cost to implement the Capital Project inclusive of Project Development through completion of Construction that accounts for risk to the cost elements and the schedule to complete the project.

c. “Capital Project” means a project for acquiring, constructing, improving, or inspecting rail equipment, track and track structures, or a rail facility, including expenses incidental to the acquisition or construction including pre-construction activities (such as designing, engineering, location surveying, mapping, acquiring rights-of-way) and related relocation costs, environmental studies, and all work necessary for FRA to approve the project under the National Environmental Policy Act; highway-rail grade crossing improvements; communication and signalization improvements; and rehabilitating, remanufacturing, or overhauling rail rolling stock and rail facilities.

d. “Construction” means the Lifecycle Stage of a Capital Project when physical production of fixed works and structures, or substantial alterations to such structures or land, or production or refurbishment of vehicles and equipment, are accomplished and commissioned for operational use. Construction includes associated project administration, test of equipment as appropriate, systems integration testing, workforce training, system certification, procurement of insurance, pre-revenue service, start-up testing, and other related costs.

e. “Commuter Rail Passenger Transportation” means short-haul rail passenger transportation in metropolitan and suburban areas usually having reduced fare, multiple rides, and commuter tickets, and morning and evening peak period operations, consistent with 49 U.S.C. 24102(3); the term does not include rapid transit operations in an urban area that are not connected to the general railroad system of transportation.

f. “Final Design (FD)” means the Capital Project Lifecycle Stage when final design and engineering plans and specifications necessary for the Construction stage are completed, and, at a minimum, includes (1) the preparation of final design plans consistent with the applicable environmental decision document and detailed specifications, (2) the preparation of an updated Project Management Plan, (3) the preparation of an updated project schedule, cost estimate, and other necessary plans that may include a financial plan, sufficiently detailed to inform decision makers of the actions required to advance the project through completion of Construction. FD may include early construction or relocations and procurement of equipment and materials during the final design stage, when such work is permissible under applicable law.

g. “Improvement” means repair or enhancement to existing rail infrastructure, equipment, or facility, or construction of new rail infrastructure, equipment or facilities, that results in efficiency of the rail system and the safety of those affected by the system.

h. “Intercity Rail Passenger Transportation” means rail passenger transportation, except commuter rail passenger transportation. See 49 U.S.C. 24911(a)(2). In this notice, “Intercity Passenger Rail Service” and “Intercity Passenger Rail Transportation” are equivalent terms to “Intercity Rail Passenger Transportation.”

i. “Lifecycle Stage” means each of the consecutive stages of a Capital Project as it is developed and implemented that include systems planning, Project Planning, Project Development, Final Design, Construction, and operation. Each sequential stage involves specific activities.⁴

⁴ FRA evaluates project readiness for a lifecycle stage when considering a project for funding.

j. “Major Capital Project” means a Capital Project with a Capital Cost Estimate of $500 million and with at least $100 million in federal assistance under the FSP Program.

k. “National Environmental Policy Act (NEPA)” is a federal law that requires Federal agencies to analyze and document the environmental impacts of a proposed action in consultation with appropriate Federal, State, and local authorities, and with the public. NEPA classes of action include an Environmental Impact Statement (EIS), Environmental Analysis (EA) or Categorical Exclusion (CE). The NEPA class of action depends on the nature of the proposed action, its complexity, and the potential impacts. For purposes of this NOFO, NEPA also includes all related Federal laws and regulations including the Clean Air Act, Section 4(f) of the Department of Transportation Act, Section 7 of the Endangered Species Act, and Section 106 of the National Historic Preservation Act. Additional information regarding FRA's environmental processes and requirements are located at https://railroads.dot.gov/rail-network-development/environment/environment.

l. “Northeast Corridor” (“NEC”) means the main rail line between Boston, Massachusetts and the District of Columbia; the branch rail lines connecting to Harrisburg, Pennsylvania, Springfield, Massachusetts, and Spuyten Duyvil, New York; and facilities and services used to operate and maintain these lines, consistent with 49 U.S.C. 24911(a)(3).

m. “Project Development” means the Capital Project Lifecycle Stage during which (1) the environmental review process required under NEPA and other related environmental laws is completed, and the permitting processes is advanced as appropriate; (2) preliminary engineering and other preliminary design is completed to support the environmental review and preparation of estimates of risk, costs, benefits, and impacts; (3) a project management plan is prepared that identifies procurement requirements and strategies; (4) a detailed project schedule and a cost estimate are prepared; and (5) a financial plan for Major Projects and other necessary plans are prepared.

n. “Project Planning” means the Capital Project Lifecycle Stage during which the Project Sponsor (1) identifies capital project concepts to address transportation needs and opportunities; (2) identifies and compares costs, benefits, and impacts of project options; (3) identifies the impacted environmental resources and engages with interested parties, agencies, and infrastructure owners.

o. “Project Management Plan” means a document that describes how the Capital Project will be implemented, monitored, and controlled to help the applicant effectively, efficiently, and safely deliver the project on-time, within-budget, and at the highest appropriate quality.

p. “Preliminary Engineering (PE)” means engineering design to define a Capital Project, including identification of all environmental impacts and design of all critical project elements at a level sufficient to assure reliable cost estimates and schedules. The PE development process starts with specific project design alternatives that allow for the assessment of a range of rail improvements, specific alignments, and project designs.

q. “State of Good Repair” means a condition in which physical assets, both individually and as a system, are (A) performing at a level at least equal to that called for in their as-built or as-modified design specification during any period when the life cycle cost of maintaining the assets is lower than the cost of replacing them; and (B) sustained through regular maintenance and replacement programs, consistent with 49 U.S.C. 24102(12).

B. Federal Award Information

1. Available Award Amount

The total funding available for awards under this NOFO is up to $2,283,150,000 made available by IIJA supplemental appropriations, and the Appropriations Act, as follows:

a. Up to $2,232,000,000 in IIJA supplemental appropriations: Title VIII of Division J of IIJA provided $36,000,000,000 in supplemental appropriations for the FSP Program, with not more than $24,000,000,000 made available for projects for the NEC and thus at least $12,000,000,000 of such funds made available for FSP-National ($2,400,000,000 made available per year for fiscal years 2022 through 2026). After the funding set aside for FRA award and project management oversight and the planning and development activities authorized at 49 U.S.C. 24911(k), up to $2,232,000,000 in funding made available for fiscal year 2022 is made available for FSP Program awards under this FSP-National NOFO.

b. Up to $51,150,000 in fiscal year 2022 annual appropriations: The Appropriations Act provided $100,000,000 for the FSP Program. Consistent with 49 U.S.C. 24911(d)(3), a minimum of 45 percent and a maximum of 55 percent of this amount is for FSP-National, of which not less than 20 percent (a minimum of $8,370,000) shall be for projects that benefit (in whole or in part) a long-distance route. After the funding set aside for FRA award and project management oversight and the planning and development activities authorized at 49 U.S.C. 24911(k), at least $41,850,000 and up to $51,150,000 in fiscal year 2022 annual funding is made available for FSP Program awards under this FSP-National NOFO.

Should additional FSP-National funds become available after the release of this NOFO, FRA may elect to award such additional funds to applications received under this NOFO. Any selection and award under this NOFO is subject to the availability of appropriated funds.

2. Award Size

There are no predetermined minimum or maximum dollar thresholds for awards. FRA anticipates making multiple awards with the available funding. FRA may not be able to award grants to all eligible applications even if they meet or exceed the stated evaluation criteria (see Section E, Application Review Information). Projects may require more funding than is available. FRA encourages applicants to propose a project that has operational independence or a component of such project and that can be completed and implemented with funding under this NOFO as a part of the total project cost together with other, non-Federal sources. (See Section C(3)(c) for more information.)

3. Award Type

a. Grants and Cooperative Agreements

FRA will make awards for projects selected under this notice through grant agreements or cooperative agreements. Grant agreements are used when FRA does not expect to have substantial Federal involvement in carrying out the funded activity. Cooperative agreements allow for substantial Federal involvement in carrying out the agreed upon investment, including technical assistance, review of interim work products, and increased program oversight. The term “grant” is used throughout this document and is intended to reference funding awarded through a grant agreement, as well as funding awarded through a cooperative agreement. The funding provided under this NOFO will be made available to grantees on a reimbursable basis. Applicants must certify that their expenditures are allowable, allocable, reasonable, and necessary to the approved project before seeking reimbursement from FRA. Additionally, the grantee is expected to expend matching funds at the required percentage concurrent with Federal funds throughout the life of the project. See an example of standard terms and conditions for FRA grant awards at: https://www.fra.dot.gov/eLib/Details/L19057. This template is subject to revision.

b. Letters of Intent and Phased Funding Agreements

FRA may issue Letters of Intent (LOI) or Phased Funding Agreements (PFA) to FSP grantees proposing Major Capital Projects under this FSP-National NOFO. Applications for a Major Capital Project that may seek FSP funds beyond what is made available in this NOFO and that seek an LOI or PFA must request an LOI or PFA in the Project Narrative and provide the additional information required in section D.2.a.iii. Additionally, FRA may independently determine that a project is appropriate for an LOI or PFA.

An LOI, authorized at 49 U.S.C. 24911(g)(1), is a letter from FRA to a grantee announcing “an intention to obligate” an amount to its Major Capital Project from future budget authority. LOIs are contingent commitments and not binding obligations of the Federal government. FRA intends to use LOIs to demonstrate its intent to provide future Final Design and Construction Lifecycle Stage funding for Major Capital Projects assuming successful completion of Project Planning and Project Development Lifecycles for the project. FRA anticipates limiting the use of LOIs primarily to appropriate projects currently in, or beginning, the Project Development Lifecycle Stage. In issuing the LOI, FRA may outline conditions and/or define readiness thresholds that the grantee may use to inform future funding requests for FSP-National funds.

A PFA, authorized at 49 U.S.C. 24911(g)(2), is an agreement associated with the obligation of an initial grant award under the FSP Program. FRA may enter into a PFA for highly rated Major Capital Projects. A PFA shall: (1) establish the terms of participation by the Federal Government in the project; (2) establish the maximum amount of Federal financial assistance for the project; (3) include the period of time for completing the project, even if such period extends beyond the period for which Federal financial assistance is authorized; and (4) make timely and efficient management of the project easier in accordance with Federal law.⁵ FRA anticipates limiting the use of PFAs to applications that include funding for the Construction Lifecycle Stage and are scheduled to enter the Final Design or Construction Lifecycle Stage within two (2) years of the date of the application. PFAs are contingent commitments and are not financial obligations of the Federal government. However, unlike LOIs, PFAs are agreements with an initial obligation of funding provided from this solicitation. FRA commits to the future obligation of funding as specified in the PFA, generally for the duration of the project, as long as the grantee continues to meet the terms of the PFA and Congress appropriates sufficient FSP funding for such purpose.

⁵ Generally, prior to receiving a PFA, the project sponsor must complete the process for complying with the National Environmental Policy Act of 1969 (42 U.S.C. 4321 et seq.) and related environmental laws for the project.

4. Concurrent Applications

DOT and FRA may be concurrently soliciting applications for transportation infrastructure projects for several financial assistance programs. Applicants may submit applications requesting funding for a particular project to one or more of these programs. In the application for funding under this NOFO, applicants must indicate the other program(s) to which they submitted or plan to submit an application for funding the entire project or certain components, as well as highlight new or revised information in the application responsive to this NOFO that differs from the previously submitted application(s).

C. Eligibility Information

This section of the notice explains applicant eligibility, cost sharing and matching requirements, project eligibility, and operational independence. Applications that do not meet the requirements in this section will be ineligible for funding. Instructions for submitting eligibility information to FRA are detailed in Section D of this NOFO.

1. Eligible Applicants

The following entities are eligible applicants for all projects permitted under this notice:

a. a State (including the District of Columbia);

b. a group of States;

c. an Interstate Compact;

d. a public agency or publicly chartered authority established by one or more States;

e. a political subdivision of a State;

f. Amtrak, acting on its own behalf or under a cooperative agreement with one or more States;

g. a Federally recognized Indian Tribe, or

h. any combination of the entities described in (a) through (g).

Applications must identify a lead applicant to serve as the primary point of contact for the application, and if selected, as the grantee of the FSP-National grant award.

To submit a joint application under (h) above, the lead applicant must identify the joint applicant(s) and include a signed statement from an authorized representative of each joint applicant entity that affirms the entity joins the application. See Section D(2) for further instructions about submitting a joint application.

An application submitted by Amtrak and one or more States, whether eligible under (a), (b), or (f) above, must identify the lead applicant and include a signed cooperative agreement between Amtrak and the state(s) consistent with 49 U.S.C. 24911(a)(1)(F). Applications may reference entities that are not eligible applicants (e.g., private sector firms) in an application as a partner in project funding or implementation, but ineligible entities may not be lead or joint applicants. If the applicant intends to partner with an ineligible entity (e.g., a private intercity passenger rail operator), that intention should be made clear in the application and a letter of support from the ineligible entity outlining its roles and responsibilities for the project must be included in the application. Eligible applicants who partner with private operators of intercity passenger rail will be the legally responsible party for administering and managing federal funds and ultimately delivering the project.

2. Cost Sharing and Matching

The Federal share of total costs for FSP projects funded under this notice shall not exceed 80 percent. The estimated total cost of a project must be based on the best available information, including engineering studies, studies of economic feasibility, environmental analyses, and information on the expected use of equipment and/or facilities. Additionally, in preparing the Capital Cost Estimates, applicants should, as appropriate, consult available FRA guidance, including FRA's cost estimate guidance documentation, “Capital Cost Estimating: Guidance for Project Sponsors.” ⁶

⁶ The “Capital Cost Estimating: Guidance for Project Sponsors,” is available at: https://www.fra.dot.gov/Page/P0926.

The minimum 20 percent non-Federal share may be comprised of public sector (e.g., State or local) or private sector funding. FRA will not consider any Federal financial assistance ⁷ or any non-Federal funds already expended (or otherwise encumbered) toward the matching requirement, unless compliant with 2 CFR part 200. In-kind contributions, including the donation of services, materials, and equipment, may be credited as a project cost in a uniform manner consistent with 2 CFR 200.306.

⁷ See Section D(2)(a)(iii) for supporting information required to demonstrate eligibility of Federal funds for use as match.

If Amtrak is an applicant, Amtrak may use its ticket and other non-Federal revenues generated from its operations and other sources to satisfy the non-Federal share requirements. Applicants must identify the source(s) of their matching and must clearly and distinctly reflect these funds as part of the total project cost.

Before applying, applicants should carefully review the principles for cost sharing or matching in 2 CFR 200.306. See Section D(3)(a)(iii) for required application information on non-Federal match and Section E for further discussion of FRA's consideration of matching funds in the review and selection process. FRA will approve pre-award costs incurred after announcement of awards consistent with 2 CFR 200.458, as applicable. See Section D(6). Cost sharing or matching may be used only for authorized Federal award purposes.

3. Other

a. Project Eligibility: The following capital projects, including acquisition of real property interests, are eligible to receive grants under this NOFO.

1. A project to replace, rehabilitate, or repair infrastructure, equipment,⁸ or a facility used for providing intercity passenger rail service to bring such assets into a state of good repair.

⁸ The location of the equipment's primary use will determine whether the equipment is eligible to receive funding under this NOFO.

2. A project to improve intercity passenger rail service performance, including reduced trip times, increased train frequencies, higher operating speeds, improved reliability, expanded capacity, reduced congestion, electrification, and other improvements, as determined by the Secretary.

3. A project to expand or establish new intercity passenger rail service.

4. A group of related projects described in paragraphs (1) through (3).

5. The planning, environmental studies, and final design for a project or group of projects described in paragraphs (1) through (4).

For projects that are on a shared corridor with Commuter Railroad Passenger Transportation or freight transportation, applicants must clearly demonstrate how the proposed project directly benefits Intercity Passenger Rail Transportation and that funding the proposed project would be a reasonable investment in Intercity Passenger Rail Transportation, independent and separate from consideration of the proposed project's benefits to other transportation purposes. A project that uses rolling stock or equipment originating from a “country of concern” or from a state-owned enterprise, as those terms are defined under 49 U.S.C. 20171, is ineligible.

Capital Projects, as further defined in Section A(2), may include the acquisition of real property interests, planning, Project Development, Final Design, and Construction. Pre-Construction activities are eligible for funding independently or in conjunction with proposed funding for construction. Projects that include Project Development may include engineering drawings and specifications (scale drawings at the 30% design level, including track geometry as appropriate); design criteria, schematics, and/or track charts that support the development of PE; and work that can be funded in conjunction with developing PE, such as operations modeling, surveying, project work/management plans, preliminary cost estimates, and preliminary project schedules. Project Development funded under this NOFO must be sufficiently developed when complete to support FD or Construction activities. (See Section D(2)(a)(xii) for additional information.)

b. Project Component: If an applicant requests funding for a component or set of components of a larger capital project, the project component(s) must be attainable with the award amount and comply with all eligibility requirements described in Section C. In addition, the component(s) must enable independent analysis and decision making, as determined by FRA under NEPA (i.e., have independent utility, connect logical termini, and do not restrict the consideration of alternatives for other reasonably foreseeable rail projects).

c. Application Tracks: Applicants are not limited in the number of projects for which they seek funding. While applications covering multiple tracks are not precluded, FRA generally expects that applications identify only one of the following tracks for an eligible activity: Track 1—Project Planning; Track 2—Project Development; Track 3—FD/Construction.

1. Track 1—Project Planning: Track 1 consists of planning specific to a Capital Project. Examples include the development of a purpose and need study for a proposed capital project; development of conceptual design concepts that establish the type and scope of identified capital improvements; an alternative analysis identifying the costs, benefits, service option, and methodology for eliminating preliminary project alternatives; an environmental analysis that addresses resources and potential environmental effects both to natural and the human environment.

2. Track 2—Project Development: Track 2 consists of projects for eligible Project Development activities. PE examples include PE drawings and specifications (scale drawings at the 30 percent design level, including track geometry as appropriate); design criteria, schematics and/or track charts that support the development of PE; and work that can be funded in conjunction with developing PE, such as operations modeling, surveying, project work/management plans, preliminary cost estimates, and preliminary project schedules. Project Development projects funded under this NOFO must be sufficiently developed when complete to support FD or Construction activities, including with respect to equipment.

3. Track 3—FD/Construction: Track 3 consists of projects for eligible FD and Construction, and project implementation and deployment activities, including with respect to equipment. Applicants must complete all necessary Planning and Project Development stages, including PE and NEPA requirements, prior to moving to the FD/Construction stage of a project. FD funded under this track must resolve remaining uncertainties or risks associated with changes to the design and scope of the Capital Project; address procurement processes; and update and refine the schedule, cost estimate, and plans for financing the project or program to reflect accurately the expected year-of expenditure costs and cash flow projections. Prior to obligation, applicants selected for funding for FD/Construction must demonstrate, in accordance with available FRA guidance, the following to FRA's satisfaction: (A) PE is completed for the proposed project, resulting in project designs that are reasonably expected to conform to all regulatory, safety, security, and other design requirements, including those under the Americans with Disabilities Act (ADA); (B) NEPA is completed for the proposed project; (C) the applicants have entered into the appropriate agreements with key project partners, including infrastructure-owning entities; and (D) a Project Management Plan is complete and up-to-date for managing the implementation of the proposed project, including the management and mitigation of project risks.

D. Application and Submission Information

Required documents for the application are outlined in the following paragraphs. Applicants should, as appropriate, consult available FRA guidance when developing applications. Applicants must complete and submit all components of the application. See Section D(2) for the application checklist. FRA welcomes the submission of additional relevant supporting documentation, such as planning, engineering, and design documentation, and letters of support from partnering organizations, which will not count against the Project Narrative 25-page limit.

1. Address To Request Application Package

Applicants may access application materials at https://www.Grants.gov and must submit all application materials in their entirety through https://www.Grants.gov no later than 5 p.m. ET, on March 7, 2023. Applicants must complete an Authorized Organization Representative (AOR) profile on www.Grants.gov and create a username and password. Additional information about the registration process is available at: https://www.grants.gov/web/grants/applicants/organization-registration.html.

Applicants are strongly encouraged to apply early to ensure that all materials are received before the application deadline. FRA reserves the right to modify this deadline. General information for submitting applications through Grants.gov can be found at: https://www.fra.dot.gov/Page/P0270.

FRA is committed to ensuring that information is available in appropriate alternative formats to meet the requirements of persons who have a disability. If you require an alternative version of files provided, please contact Laura Mahoney, Office of the Chief Financial Officer, Federal Railroad Administration, 1200 New Jersey Avenue SE, Washington, DC 20590; email: laura.mahoney@dot.gov; phone: 202-578-9337.

The E-Business Point of Contact at the applicant's organization must respond to the registration email from Grants.gov and login at www.Grants.gov to authorize the applicant as the AOR. Please note there can be more than one AOR for an organization.

If an applicant experiences difficulty at any point during this process, please call the Grants.gov Customer Center Hotline at 1-800-518-4726, 24 hours a day, 7 days a week (closed on Federal holidays). For information and instructions on each of these processes, please see instructions at: https://www.grants.gov/web/grants/applicants/apply-for-grants.html.

2. Content and Form of Application Submission

FRA strongly advises applicants to read this section carefully. Applicants must submit all required information and components of the application package to be considered for funding. Applications that are not submitted on time or do not contain all required documentation will not be considered for funding. To support the application, applicants may provide other relevant and available optional supporting documentation that may have been developed by the applicant, especially such documentation that provides evidence of completion of the appropriate Lifecycle Stage(s) of a Capital Project. Additionally, applicants selected to receive funding must satisfy the requirements in 49 U.S.C. 22903 and 22905, including FRA's Buy America requirement and conditions explained in part at https://www.fra.dot.gov/page/P0185 and further in section F.2 of this notice.

Required documents for an application package are outlined in the checklist below.

i. Project Narrative (see D.2.a).

ii. Statement of Work (see D.2.b.i).

iii. Benefit-Cost Analysis (see D.2.b.ii).

iv. Environmental Compliance Documentation (see D.2.b.iii).

v. Funding Commitment Supporting Documentation (see D.2.b.iii).

vi. SF 424—Application for Federal Assistance.

vii. SF 424C—Budget Information for Construction, or, for an equipment procurement project or non-Construction project, SF 424A—Budget Information for Non-Construction.

viii. SF 424D—Assurances for Construction, or, for an equipment procurement project or non-Construction project, SF 424B—Assurances for Non-Construction.

ix. FRA's F 30—Certifications Regarding Debarment, Suspension and Other Responsibility Matters, Drug-Free Workplace Requirements and Lobbying.

x. SF LLL—Disclosure of Lobbying Activities.

xi. Draft Agreement required under 49 U.S.C. 22905(c)(1), if applicable (see D.2.b.xi).

a. Project Narrative

This section describes the minimum content required in the Project Narrative of grant applications. The Project Narrative must follow the basic outline below to address the program requirements and assist evaluators in locating relevant information.

I. Cover Page, See D.2.a.i

II. Project Summary, See D.2.a.ii

III. Project Funding, See D.2.a.iii

IV. Applicant Eligibility Criteria, See D.2.a.iv

V. Project Eligibility Criteria, See D.2.a.v

VI. Detailed Project Description, See D.2.a.vi

VII. Project Location, See D.2.a.vii

VIII. Grade Crossing Information, if applicable, See D.2.a.viii

IX. Evaluation and Selection Criteria, See D.2.a.ix

X. Project Implementation and Management, See D.2.a.x

XI. Environmental Readiness, See D.2.a.xi

The above content must be provided in a narrative statement submitted by the applicant. The Project Narrative may not exceed 25 pages in length (excluding cover pages, table of contents, and supporting documentation). FRA will not review or consider Project Narratives beyond the 25-page limitation. If possible, applicants should submit supporting documents via website links rather than hard copies. If supporting documents are submitted, applicants must clearly identify the relevant portion of the supporting document with the page numbers of the cited information in the Project Narrative. The Project Narrative must adhere to the following outline.

i. Cover Page: include a cover page that lists the following elements in either a table or formatted list:

Project title |
Lead Applicant Name |
Joint Applicant(s) Name(s), if any |
Amount of Federal Funding Requested in this Application |
Proposed Non-Federal Match |
Total Project Cost |
Was a Federal Grant Application Previously Submitted for this Project? | Yes/No.
If Yes, State the Name of the Federal Grant Program and Title of the Project in the Previous Application | Federal Grant Program:
City(-ies), State(s) Where the Project is Located |
Current Project Lifecycle Stage |
Intercity Passenger Rail Service(s) Benefiting from the Project (incl. any Long-Distance Services) |
Infrastructure Owner(s) of Project Assets |
Congressional District(s) Where the Project is Located |
LOI/PFA Requested? | Yes/No

ii. Project Summary: Provide a brief 4-6 sentence summary of the proposed project. Include challenges the proposed project aims to address and summarize the intended outcomes and anticipated benefits that will result from the proposed project.

iii. Project Funding: Indicate in table format the amount of Federal funding requested, the proposed non-Federal match, and total project cost. For a Major Capital Project seeking funding for the Construction stage the amount of federal funding requested should include the remaining budget needed to complete the Construction Lifecycle Stage. Identify the source(s) of matching and other funds, and clearly and distinctly reflect these funds as part of the total project cost in the application budget. Include funding commitment letters outlining funding agreements, as attachments or in an appendix. Funding commitments must be signed by an authorized representative of the entity providing a Non-Federal match. If Federal funding is proposed as match, demonstrate the applicant's determination of eligibility for such use and the legal basis for that determination. Also, note if the requested Federal funding under this NOFO or other programs must be obligated or spent by a certain date due to dependencies or relationships with other Federal or non-Federal funding sources, related projects, law, or other factors. If applicable, provide the type and estimated value of any proposed in-kind contributions, as well as substantiate how the contributions meet the requirements in 2 CFR 200.306.

For a Major Capital Projects seeking funding for construction and scheduled to enter the Final Design or Construction Lifecycle Stage within two (2) years of the date of the application, provide an annualized budget of the total project cost in year of expenditure dollars based on the Capital Cost Estimate. An applicant should specify if it is seeking a PFA. Additionally, if applicable, applicants should identify and describe project phases and/or delivery elements that could be candidates for subsequent FSP funding, as part of a potential PFA if such funding becomes available. PFA disbursements are not required to align and need not be scheduled to align with project components with independent utility or operational independence, since the project as a whole achieves independent utility and operational independence. However, applicants are encouraged to identify meaningful milestones by which FRA can measure project progress for each forecasted funding request. Finally, applicants must specify whether Federal funding for the project has previously been sought and identify the Federal program and fiscal year of the funding request(s), as well as highlight new or revised information in the FSP-National NOFO application that differs from the application(s) to other financial assistance programs.

Example Project Funding Table
Task # | Task name/project component | Cost | Percentage of total cost
1 |  |
2 |  |
Total Project Cost |  |
Federal Funds Received from Previous Grant |  |
Federal Funding Under this Application |  |
Non-Federal Funding/Match | Cash: In-Kind: |
Portion of Non-Federal Funding from the Private Sector |  |
Portion of Total Project Costs Spent in a Rural Area |  |
Pending Federal Funding Requests |  |

iv. Applicant Eligibility Criteria: Explain how the lead applicant and joint applicant(s) meet the applicant eligibility criteria outlined in Section C of this notice. For public agencies and publicly chartered authorities established by one or more States, the explanation must include relevant legislative language and citations to the applicable enabling legislation. To submit a joint application, the lead applicant must identify the joint applicant(s) and include a signed statement from an authorized representative of each joint applicant entity that affirms the entity joins the application.

For joint applications involving Amtrak and one or more States, Amtrak and the State(s) must provide a cooperative agreement for the project signed by authorized representatives of Amtrak and each State. Joint applications are expected to include a description of the roles and responsibilities of each applicant, including budget and subrecipient information showing how the applicants will share project costs.

v. Project Eligibility Criteria: Demonstrate that the proposed project meets the project eligibility criteria in Section C(3) of this notice.

vi. Detailed Project Description: The applicant must include a detailed project description that expands upon the brief project summary. This detailed description should provide, at a minimum: additional background on the transportation challenges the project aims to address; a summary of current and proposed railroad operations in the project area, to include identification of all railroad owners and operators; typical daily, weekly, or annual train counts by operator, and ridership data for passenger operations; the primary expected project outcomes such as increased ridership, reduced delays, improved rail network asset condition and performance, or similar outcomes and benefits; the expected users and beneficiaries of the project, including all railroad operators and types of passenger or freight rail service operating or proposed to operate in the project area; the specific components and elements of the project; and any other information the applicant deems necessary to justify the proposed project.

vii. Project Location: The applicant must include geospatial data for the project, as well as a map of the project's location. Geospatial data can be expressed in terms of decimal degrees for latitude and longitude of at least five decimal places of precision or start and end mileposts designating railroad code and subdivision name. On the map, include the Congressional districts in which the project will take place.

viii. Grade Crossing Information, if applicable: For a project that includes grade crossing components, cite specific DOT National Grade Crossing Inventory information, including the railroad that owns the infrastructure (or the crossing owner, if different from the railroad), the primary railroad operator, the DOT crossing inventory number, and the roadway at the crossing. Applicants can search for data to meet this requirement at the following link: https://railroads.dot.gov/safety-data/fra-safety-data-reporting/crossing-inventory-data-search.

ix. Evaluation and Selection Criteria: The applicant must include a thorough discussion of how the proposed project meets the evaluation and selection criteria as outlined in Section E of this notice. If an application does not sufficiently address the evaluation criteria and the selection criteria, it is unlikely to be a competitive application.

Applicants are encouraged to include quantifiable railroad data, such as information on delay, failure or safety incidents, passengers carried (e.g., ridership), daily train movement, or similar metrics. In addition to the qualifiable data, applicants are also encouraged to include qualitative data on accessibility improvements to either new or existing assets such as stations, platforms or rolling stock. To the extent feasible, such railroad metrics should be provided and analyzed discretely for Intercity Passenger Rail and, if applicable, Commuter Rail Passenger Transportation and freight rail transportation services involved in the proposed project.

x. Project Implementation and Management: The applicant must describe proposed project implementation and project management arrangements, including between the lead and joint applicants, if any. Include descriptions of the expected arrangements for project contracting, contract oversight and control, change-order management, and conformance to Federal requirements for project progress reporting (see https://www.fra.dot.gov/Page/P0274). Describe past experience in managing and overseeing similar projects; the technical qualifications and demonstrated experience of key personnel proposed to lead and perform the technical efforts, and the qualifications of the primary and supporting organizations to fully and successfully execute the proposed project within the proposed timeframe and budget, including a discussion of the factors in 2 CFR 200.206(b); and the proposed approach to assessing and mitigating project risk (these factors may be summarized in the Project Narrative and additional information may be provided as supporting documentation, as applicable).⁹ For Major Capital Projects and consistent with 49 U.S.C. 22903(a), demonstrate that project management plans include elements such as management controls, relations management, project planning and concept design, environment, design management, project delivery, construction management, construction close out, start up and revenue operation, real estate acquisition and management, and rolling stock acquisition and management (see https://railroads.dot.gov/training-guidance/resources/project-development).

⁹ Project risks, such as procurement delays, environmental permitting or litigation uncertainties, increases in real estate acquisition costs, uncommitted local match, concerns expressed by stakeholders or impacted communities who may be relocated for the project, or lack of legislative approval, affect the likelihood of successful project start and completion. Applicants must identify all material risks to the project and the strategies that the lead applicant and any project partners have undertaken or will undertake to mitigate those risks. The applicant will assess the greatest risks to the project and identify how the project parties will mitigate those risks. The applicant must include its risk monitoring, management and mitigation strategy and explain management staffing plans and procedures.

xi. Environmental Readiness: If the NEPA process is complete, an applicant should indicate the date of completion and provide a website link or other reference to the documents demonstrating compliance with NEPA, which might include a final Categorical Exclusion, Finding of No Significant Impact, or Record of Decision. If the NEPA process is not yet underway, the application should state this. If the NEPA process is underway, but not complete, the application should detail the type of NEPA review underway, where the project is in the process, and indicate the anticipated date of completion of all NEPA-related milestones. If the last agency action with respect to NEPA documents occurred more than three years before the application date, the applicant should describe why the project has been delayed and why NEPA documents have not been updated and include a proposed approach for verifying and, if necessary, updating this material in accordance with applicable NEPA requirements. Additional information regarding FRA's environmental processes and requirements are located at https://www.fra.dot.gov/environment.

xii. DOT Strategic Goals: Applicants should describe efforts to consider safety, economic strength, environmental sustainability impacts, as well as efforts to improve equity and reduce barriers to opportunity in project planning. In addition, applicants should describe how planning activities and project delivery actions advance good-paying, quality jobs and workforce programs and hiring policies that promote workforce inclusion.

b. Additional Application Elements

Applicants must submit:

i. A Statement of Work (SOW) addressing the scope, schedule, budget, and performance measures for the proposed project if it were selected for award. The SOW must contain sufficient detail, so FRA and the applicant can understand the expected outcomes of the proposed work to be performed and can monitor progress toward completing project tasks and deliverables during a prospective grant's period of performance. Applicants must use FRA's standard SOW, schedule, budget, and performance measures templates to be considered for award. The four required templates are labeled “Example General Grants—Attachments 2-5” and are located at https://www.fra.dot.gov/Page/P0325. Applications that do not include all four of the grant package templates will be considered incomplete and will not be reviewed.

When preparing the budget, the total cost of a project must be based on the best available information as indicated in cited references that include engineering studies, economic feasibility studies, environmental analyses, and information on the expected use of equipment or facilities. Applicants must include annual budget estimates in year of expenditure dollars for the duration of the project.

For all projects, applicants must provide information about proposed performance measures, as described in Section F(3)(c) and required in 2 CFR 200.301. Further, applicants must provide their plan for taking affirmative steps to employ small businesses consistent with 2 CFR 200.321.

ii. A Benefit-Cost Analysis (BCA) consistent with 49 U.S.C. 24911(d)(2)(B)(i), as an appendix to the Project Narrative for each project submitted by an applicant. The BCA should demonstrate in economic terms the merit of investing in the proposed project. The BCA should include anticipated private and public benefits relative to the costs of the proposed project, including the project's anticipated:

1. effects on system and service performance, including as measured by applicable metrics set forth in 49 CFR part 273 (or successor regulations);

2. effects on safety, competitiveness, reliability, trip or transit time, greenhouse gas emissions, and resilience;

3. effects of anticipated positive economic and employment impacts, including development in areas near passenger stations, historic districts, or other opportunity zones;

4. efficiencies from improved connections with other modes; and

5. ability to meet existing or anticipated demand.

The BCA should be systematic, data driven, and examine the trade-offs between reasonably expected project costs and benefits. The BCA for Project Development projects should be for the underlying project, not the just the systems planning or PE/NEPA work itself. For Final Design/Construction projects applicants are required to document project benefits and costs. Estimates of benefits should be presented in monetary terms whenever possible; if a monetary estimate is not possible, the applicant should provide a quantitative estimate (in physical, non-monetary terms, such as crash or employee casualty rates, ridership estimates, emissions levels, energy efficiency improvements, etc.). Applicants must follow the BCA Guidance for Discretionary Grant Programs when preparing a BCA. The guidance is available at https://www.transportation.gov/office-policy/transportation-policy/benefit-cost-analysis-guidance. In addition, please also refer to the AQs Webinar on FRA's website (https://railroads.dot.gov/rail-network-development/training-guidance/webinars-0) for some rail-specific examples of how to apply the BCA Guidance for Discretionary Grant Programs to FSP Program applications. All benefits claimed for the project must be clearly tied to the expected outcomes of the project. The complexity and level of detail in the BCA prepared for this FSP-National NOFO should reflect the scope, scale, and the appropriate Capital Project Lifecycle stage of the proposed project.

iii. Environmental compliance documentation, as applicable, if a website link is not cited in the Project Narrative.

iv. SF 424—Application for Federal Assistance.

v. SF 424A—Budget Information for Non-Construction or SF 424C—Budget Information for Construction.

vi. SF 424B—Assurances for Non-Construction or SF 424D—Assurances for Construction.

vii. FRA F30—Certification Regarding Debarment, Suspension and Other Responsibility Matters, Drug-Free Workplace Requirements and Lobbying, located at https://railroads.dot.gov/elibrary/fra-f-30-certifications-regarding-debarment-suspension-and-other-responsibility-matters.

viii. FRA F 251—Applicant Financial Capability Questionnaire, located at https://railroads.dot.gov/elibrary/fra-f-251.

ix. SF LLL—Disclosure of Lobbying Activities.

x. Draft Agreement required under 49 U.S.C. 22905(c)(1), if applicable. As a condition of a grant under this program for a project that uses rights-of way owned by a railroad, the grantee shall have in place a written agreement between the grantee and the railroad regarding such use and ownership, including any compensation for such use; assurances regarding the adequacy of infrastructure capacity to accommodate both existing and future freight and passenger operations; an assurance by the railroad that collective bargaining agreements with the railroad's employees including terms regulating the contracting of work will remain in full force and effect according to their terms for work performed by the railroad on the railroad transportation corridor; and an assurance that the grantee complies with liability requirements consistent with 49 U.S.C. 28103.

Forms needed for the electronic application process are at www.Grants.gov.

3. Unique Entity Identifier and System for Award Management (SAM)

To apply for funding through Grants.gov, applicants must be properly registered in SAM before submitting an application, provide a valid unique entity identifier in its application, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable unique entity identifier and SAM requirements, and if an applicant has not fully complied with the requirements by the time the Federal awarding agency is ready to make a Federal award, the Federal awarding agency may determine that the applicant is not qualified to receive a Federal award and use that determination as a basis for making a Federal award to another applicant. Late applications, including those that are the result of a failure to register or comply with Grants.gov applicant requirements in a timely manner, will not be considered. If an applicant has not fully complied with the requirements by the submission deadline, the application will not be considered. To submit an application through Grants.gov, applicants must follow the directions below in sub-section C.

A. Register With the SAM at www.SAM.gov

All applicants for Federal financial assistance must maintain current registrations in the SAM database. An applicant must be registered in SAM to successfully register in Grants.gov. The SAM database is the repository for standard information about Federal financial assistance applicants, grantees, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a grantee's immediate and highest-level owner and subsidiaries, as well as on all predecessors that have been awarded a Federal contract or grant within the last three years, if applicable. Information about SAM registration procedures is available at www.sam.gov.

B. Obtain a Unique Entity Identifier

On April 4, 2022, the Federal government discontinued using DUNS numbers. The DUNS Number was replaced by a new, non-proprietary identifier that is provided by the System for Award Management (SAM.gov). This new identifier is called the Unique Entity Identifier (UEI), or the Entity ID. To find or request a Unique Entity Identifier, please visit www.sam.gov.

4. Submission Dates and Times

Applicants must submit complete applications to www.Grants.gov no later than 5:00 p.m. ET, March 7, 2023. Applicants will receive a system-generated acknowledgement of receipt. FRA reviews www.Grants.gov information on dates/times of applications submitted to determine timeliness of submissions. Late applications will be neither reviewed nor considered. Delayed registration is not an acceptable reason for late submission. To apply for funding under this announcement, all applicants are expected to be registered as an organization with Grants.gov. Applicants are strongly encouraged to apply early to ensure all materials are received before this deadline.

To ensure a fair competition of limited discretionary funds, no late submissions will be reviewed for any reason, including: (1) failure to complete the Grants.gov registration process before the deadline; (2) failure to follow Grants.gov instructions on how to register and apply as posted on its website; (3) failure to follow all the instructions in this NOFO; and (4) technical issues experienced with the applicant's computer or information technology environment.

5. Intergovernmental Review

Intergovernmental Review is required for this program. Applicants must contact their State Single Point of Contact to comply with their state's process under Executive Order 12372.

6. Funding Restrictions

Consistent with 2 CFR 200.458, as applicable, FRA will only approve pre-award costs if such costs are incurred pursuant to the negotiation and in anticipation of the grant agreement and if such costs are necessary for efficient and timely performance of the scope of work. Under 2 CFR 200.458, grant recipients must seek written approval from FRA for pre-award activities to be eligible for reimbursement under the grant. Activities initiated prior to the execution of a grant or without FRA's written approval may be ineligible for reimbursement or matching contribution. Cost sharing or matching may be used only for authorized Federal award purposes.

FRA is prohibited under 49 U.S.C. 22905(f) ¹⁰ from providing FSP grants for Commuter Rail Passenger Transportation. FRA's interpretation of this provision is informed by the language in 49 U.S.C. 24911; specifically, the eligible capital projects in 49 U.S.C. 24911(c). FRA's primary intent in funding FSP projects is to make reasonable investments in Capital Projects for Intercity Rail Passenger Transportation. Such projects may be located on shared corridors where Commuter Rail Passenger Transportation and/or freight rail also benefit from the project.

¹⁰ Under 49 U.S.C. 24911(i), Partnership grants are subject to the conditions in 49 U.S.C. 22905.

7. Other Submission Requirements

For any supporting application materials that an applicant cannot submit via Grants.gov, such as oversized engineering drawings, an applicant may submit an original and two (2) copies to Ms. Deborah Kobrin, Office of Rail Program Development, Federal Railroad Administration, 1200 New Jersey Ave. SE, Washington, DC 20590; or Mr. Sergio Coronado, Office of Rail Program Development, Federal Railroad Administration, 55 Broadway, Cambridge, MA 02142; phone: 617-571-1213. However, due to delays caused by enhanced screening of mail delivered via the U.S. Postal Service, FRA advises applicants to use other means of conveyance (such as courier service) to assure timely receipt of materials before the application deadline. Additionally, if documents can be obtained online, explaining to FRA how to access files on a referenced website may also be sufficient.

Note: Please use generally accepted formats such as .pdf, .doc, .docx, .xls, .xlsx and .ppt, when uploading attachments. While applicants may embed picture files, such as .jpg, .gif, and .bmp in document files, applicants should not submit attachments in these formats. Additionally, the following formats will not be accepted: .com, .bat, .exe, .vbs, .cfg, .dat, .db, .dbf, .dll, .ini, .log, .ora, .sys, and .zip.

E. Application Review Information

1. Criteria: Eligibility, Completeness, and Application Risk Review

FRA will first screen each application for applicant and project eligibility (eligibility requirements are outlined in Section C of this notice), completeness (application documentation and submission requirements are outlined in Section D of this notice), and the 20 percent minimum non-Federal match.

FRA will then consider applicant risk, including the applicant's past performance in developing and delivering similar projects and previous financial contributions.

A. Evaluation Criteria

FRA will evaluate all eligible and complete applications using the evaluation criteria outlined in this section to determine technical merit and project benefits

i. Technical Merit: FRA will take into account:

1. The degree to which the tasks and subtasks outlined in the SOW are appropriate to achieve the expected outcomes of the proposed project;

2. The technical qualifications and demonstrated experience of key personnel proposed to lead and perform the technical efforts, and the qualifications of the primary and supporting organizations to fully and successfully execute the proposed project within the proposed timeframe and budget;

3. The degree to which the proposed project's business plan considers potential private sector participation in the financing, construction, or operation of the proposed project;

4. The applicant's past performance in developing and delivering similar projects, and previous financial contributions;

5. The degree to which the applicant's proposed approach to assessing and mitigating risk is appropriate for the project;

6. Whether the applicant has, or will have, the legal, financial, and technical capacity to carry out the project; satisfactory continuing access to equipment or facilities; and the capability and willingness to maintain the equipment or facilities;

7. Whether the project has completed necessary Capital Project Lifecycle prerequisites and demonstrates strong project readiness; ¹¹ and

¹¹ Regarding project readiness, FRA uses a two-year timeframe as a benchmark to assess whether a project is likely to complete the required NEPA steps for the appropriate Project Lifecycle stage described in the application.

8. Whether the project is consistent with planning guidance and documents set forth by the Secretary of Transportation or otherwise required by law

ii. Project Benefits: FRA will take into account the Benefit-Cost Analysis of the proposed project, including anticipated private and public benefits relative to the costs of the proposed project, including—

1. Effects on system and service performance, including as measured by applicable metrics set forth in part 273 of title 49, Code of Federal Regulations (or successor regulations);

2. Effects on safety, competitiveness, reliability, trip or transit time, greenhouse gas emissions, and resilience;

3. Effects of anticipated positive economic and employment impacts, including development in areas near passenger stations, historic districts, or other opportunity zones;

4. Efficiencies from improved connections with other modes;

5. Ability to meet existing or anticipated demand; and

6. Whether the project services historically unconnected or under-connected communities.

B. Selection Criteria

In addition to the eligibility and completeness review and the evaluation criteria outlined in this section, FRA will apply the following statutory selection criteria:

i. FRA will give preference to eligible projects:

1. For which Amtrak is not the sole applicant;

2. That improve the financial performance, reliability, service frequency, or address the state of good repair of an Amtrak route; and

3. That are identified in, and consistent with, a corridor inventory prepared under the Corridor Identification and Development Program pursuant to section 25101 of the IIJA.¹²

¹² The Corridor Identification and Development Program is a new program authorized under IIJA. FRA is in the process of developing this program and Project Pipeline, but it will not be finalized by the time selections are made under this solicitation and projects proposed for funding under this NOFO will not receive this preference.

ii. After applying the above preferences, FRA will take in account the following key DOT objectives:

1. Safety: FRA will assess the project's ability to foster a safe transportation system for the movement of goods and people, consistent with the Department's strategic goal to reduce transportation-related fatalities and serious injuries across the transportation system. Such considerations will include, but are not limited to, the extent to which the project improves safety at highway-rail grade crossings, reduces incidences of rail-related trespassing, and upgrades infrastructure to achieve a higher level of safety.

2. Equitable Economic Growth and Job Creation: FRA will assess the project's ability to contribute to economic progress stemming from infrastructure investment and associated job creation in the industry. Such considerations will include, but are not limited to, the extent to which the project results in high-quality job creation by supporting good-paying jobs with a free and fair choice to join a union, in project construction, and in on-going operations and maintenance, and incorporates strong labor standards, such as through the use of project labor agreements or union neutrality agreements; includes comprehensive planning and policies to promote hiring of underrepresented populations ¹³ including local and economic hiring preferences ¹⁴ and investments in high-quality workforce development programs with supportive services, including labor-management programs, to help train, place, and retain people in good-paying jobs or registered apprenticeship, and invests in vital infrastructure assets;

¹³ While underrepresented groups vary based on local demographics and specific construction jobs, such groups may include women, people of color, including Black, Latino, Indigenous and Native American persons, Asian Americans and Pacific Islanders and other persons of color, and individuals with disabilities.

¹⁴ Local and economic hiring preferences are a contract provision requiring a contractor on a project to employ workers or apprentices/trainees from a specified target group or population, as consistent with IIJA Section 25019(a), which is not otherwise allowed by law.

3. Equity and Barriers to Opportunity: FRA will assess the project's ability to address equity and barriers to opportunity, to the extent possible within the program and consistent with law. Such considerations will include, but are not limited to, the applicant's plan for using small businesses to complete its project, the extent to which the project improves or expands transportation options, and mitigates the safety risks and detrimental quality of life effects that rail lines can have on communities. This will also include community engagement efforts already taken or planned, the extent to which engagement efforts are designed to meaningfully reach impacted communities, whether engagement is accessible for persons with disabilities or limited English proficient persons within the impacted communities, and how community feedback is taken into account in decision-making.

4. Climate Change and Sustainability: FRA will assess the project's ability to reduce the harmful effects of climate change and anticipate necessary improvements to prepare for extreme weather events. Such considerations will include, but are not limited to, the extent to which the project reduces overall lifecycle emissions, promotes energy efficiency, incorporates lower-carbon construction materials, increases resiliency, and recycles or redevelops existing infrastructure.

5. Transformation of our nation's transportation infrastructure: FRA will assess the project's ability to expand and improve the nation's rail network, which needs to balance new infrastructure for increased capacity with proper maintenance of aging assets. Such considerations will include, but are not limited to, the extent to which the project adds capacity to congested corridors, builds new connections or attracts new users to passenger rail, and ensures assets will be improved to a state of good repair. In determining the allocation of program funds, FRA may also consider geographic diversity, diversity in the size of the systems receiving funding, and the applicant's receipt of other competitive awards.

2. Review and Selection Process

FRA will conduct a five-part application review process, as follows:

a. Screen applications for applicant and project eligibility, completeness, the minimum match, and applicant risk including applicable past performance in developing and delivering similar projects;

b. Evaluate remaining applications in order to assign a rating of “Not Recommended”, “Acceptable,” “Recommended,” or “Highly Recommended” (completed by technical panels applying the evaluation criteria);

c. Review highly rated Major Capital Projects for Letters of Intent and Phased Funding Agreements, as applicable, to determine whether either is appropriate for the project based on project specific characteristics, funding availability, and statutory and policy criteria stated in this NOFO;

d. Review, apply selection criteria, and recommend initial selection of projects for the FRA Administrator's review (completed by a Senior Review Team, which includes senior leadership from the Office of the Secretary and FRA) which may include LOIs or PFAs; and

e. Select recommended awards, including associated interest in issuing Phased Funding Agreements or Letters of Intent, for the Secretary's or his designee's review and approval (completed by the FRA Administrator).

3. Reporting Matters Related to Integrity and Performance

Before making a Federal award with a total amount of Federal share greater than the simplified acquisition threshold of $250,000 (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 62 CFR 200.205.

F. Federal Award Administration Information

1. Federal Award Notices

FRA will announce applications selected for funding in a press release and on FRA's website after the application review period. This announcement is FRA's notification to successful and unsuccessful applicants alike. FRA will contact applicants with successful applications after announcement with information and instructions about the award process. This notification is not an authorization to begin proposed project activities. FRA requires satisfaction of applicable requirements by the applicant and a formal agreement signed by both the grantee and the FRA, including an approved scope, schedule, and budget, before obligating the grant. See an example of standard terms and conditions for FRA grant awards at https://railroads.dot.gov/elibrary/award-administration-and-grant-conditions. This template is subject to revision.

2. Administrative and National Policy Requirements

In connection with any program or activity conducted with or benefiting from funds awarded under this notice, grantees of funds must comply with all applicable requirements of Federal law, including, without limitation, the Constitution of the United States; the conditions of performance, nondiscrimination requirements, and other assurances made applicable to the award of funds in accordance with regulations of DOT; and applicable Federal financial assistance and contracting principles promulgated by the Office of Management and Budget (OMB). In complying with these requirements, grantees, in particular, must ensure that no concession agreements are denied or other contracting decisions made on the basis of speech or other activities protected by the First Amendment. If DOT determines that a grantee has failed to comply with applicable Federal requirements, DOT may terminate the award of funds and disallow previously incurred costs, requiring the grantee to reimburse any expended award funds.

Examples of administrative and national policy requirements include: 2 CFR part 200; procurement standards at 2 CFR part 200 Subpart D—Procurement Standards; 2 CFR 1207.317 and 2 CFR 200.401; compliance with Federal civil rights laws and regulations; disadvantaged business enterprises requirements; debarment and suspension requirements; drug-free workplace requirements; FRA's and OMB's Assurances and Certifications; ADA; safety requirements; NEPA; and environmental justice requirements. Unless otherwise stated in statutory or legislative authority, or appropriations language, all financial assistance awards follow the Uniform Administrative Requirements, Cost Principles and Audit Requirements for Federal Awards at 2 CFR part 200 and 2 CFR part 1201.

Assistance under this NOFO is subject to the grant conditions in 49 U.S.C. 22905, including protective arrangements that are equivalent to the protective arrangements established under section 504 of the Railroad Revitalization and Regulatory Reform Act of 1976 (45 U.S.C. 836) with respect to employees affected by actions taken in connection with the project to be financed in whole or in part by grants subject to 49 U.S.C. 22905, the provision deeming operators rail carriers and employers for certain purposes, and grantee agreements with railroad right-of-way owners for projects using railroad rights-of-way (see D.2.b.xi).¹⁵

¹⁵ FRA has posted draft guidance to grantees on implementing protective arrangements at https://www.govinfo.gov/content/pkg/FR-2022-03-04/pdf/2022-04530.pdf to assist grantees implementing the protective arrangements; and answers to frequently asked questions intended to assist grantees subject to the requirements of 49 U.S.C. 22905(c)(1) at https://railroads.dot.gov/elibrary/frequently-asked-questions-about-rail-improvement-grant-conditions-under-49-usc-ss-22905c1.

Projects that have not sufficiently considered climate change and sustainability in their planning, as determined by FRA, will be required to do so before receiving funds for construction, consistent with Executive Order 14008, Tackling the Climate Crisis at Home and Abroad (86 FR 7619). In the grant agreement, recipients will be expected to describe activities they have taken, or will take prior to obligation of construction funds that addresses climate change and environmental justice (EJ). Activities that address climate change include, but are not limited to, demonstrating the project will result in significant greenhouse gas emissions reductions; the project supports emissions reductions goals in a Local/Regional/State plan; the project improves disaster preparedness and resilience; and the project primarily focuses on funding for state of good repair and clean transportation options, including public transportation, walking, biking, and micro-mobility. Activities that address EJ include but are not limited to: basing project design on the results of a proven EJ screening tool (developed by another Federal agency such as the EPA, a State agency, etc.); conducting enhanced, targeted outreach to EJ communities; considering EJ in alternatives analysis and final project design; and supporting a modal shift in freight or passenger movement to reduce emissions or reduce induced travel demand.

Projects must consider and address equity and barriers to opportunity in their planning, as determined by FRA, and as a condition of receiving construction funds, consistent with Executive Order 13985, Advancing Racial Equity and Support for Underserved Communities Through the Federal Government (86 FR 7009). The grant agreement will include the grantee's description of activities it has taken, or will take prior to obligation of construction funds that addresses equity and barriers to opportunity. These activities may include, but are not limited to: completing an equity impact analysis for the project; adopting an equity and inclusion program/plan; conducting meaningful, accessible public engagement to ensure underserved communities are provided an opportunity to be involved in the planning process; including investments that either redress past barriers to opportunity or that proactively create new connections and opportunities for underserved communities; hiring from local communities; improving access to or providing economic growth opportunities for underserved, overburdened, or rural communities; or addressing historic or current inequitable air pollution or other environmental burdens and impacts.

To the extent that applicants have not sufficiently considered job quality and labor rights in their planning, as determined by the Department of Labor, the applicants will be required to do so before receiving funds for construction, consistent with Executive Order 14025, Worker Organizing and Empowerment (86 FR 22829), and Executive Order 14052, Implementation of the Infrastructure Investment and Jobs Act (86 FR 64335). Specifically, the project planning activities and project delivery actions must support: (a) strong labor standards and the free and fair choice to join a union,¹⁶ including project labor agreements, local hire agreements,¹⁷ distribution of workplace rights notices, and use of an appropriately trained workforce; (b) support of high-quality workforce development programs, including registered apprenticeship, labor-management training programs, and supportive services to help train, place, and retain people in good-paying jobs and registered apprenticeships; and (c) comprehensive planning and policies to promote hiring and inclusion for all groups of workers, including through the use of local and economic hiring preferences, linkage agreements with workforce programs that serve underrepresented groups, and proactive plans to prevent harassment.

¹⁶ Federal funds may not be used to support or oppose union organizing, whether directly or as an offset for other funds.

¹⁷ IIJA div. B 25019 provides authority to use geographical and economic hiring preferences, including local hire, for construction jobs, subject to any applicable State and local laws, policies, and procedures.

The Office of Federal Contract Compliance Programs (OFCCP) is charged with protecting America's workers by enforcing equal employment opportunity and affirmative action obligations of employers that do business with the federal government. OFCCP enforces Executive Order 11246, Section 503 of the Rehabilitation Act of 1973, and the Vietnam Era Veterans' Readjustment Assistance Act of 1974. Together these legal authorities make it unlawful for federal contractors and subcontractors to discriminate in employment because of race, color, religion, sex, sexual orientation, gender identity, national origin, disability, or status as a protected veteran.

Consistent with E.O. 11246, Equal Employment Opportunity (30 FR 12319, and as amended), all Federally-assisted contractors are required to make good faith efforts to meet the goals of 6.9% of construction project hours being performed by women, in addition to goals that vary based on geography for construction work hours and for work being performed by people of color. Under Section 503 of the Rehabilitation Act and its implementing regulations, affirmative action obligations for certain contractors include an aspirational employment goal of 7% workers with disabilities.

Applications should demonstrate that the recipient has a plan for compliance with civil rights obligations and nondiscrimination laws, including Title VI of the Civil Rights Act of 1964 and implementing regulations (49 CFR 21), the Americans with Disabilities Act of 1990 (ADA), and Section 504 of the Rehabilitation Act, and accompanying regulations. This may include, as applicable, providing a Title VI plan, community participation plan, and other information about the communities that will be benefited and impacted by the project. The Department's and FRA's Office of Civil Rights may provide resources and technical assistance to recipients to ensure full and sustainable compliance with Federal civil rights requirements. The Department of Labor's Office of Federal Contract Compliance Programs (OFCCP) has a Mega Construction Project Program through which it engages with project sponsors as early as the design phase to help promote compliance with non-discrimination and affirmative action obligations. Through the program, OFCCP offers contractors and subcontractors extensive compliance assistance, conducts compliance evaluations, and helps to build partnerships between the project sponsor, prime contractor, subcontractors, and relevant stakeholders. OFCCP will identify projects that receive an award under this notice and are required to participate in OFCCP's Mega Construction Project Program from a wide range of Federally-assisted projects over which OFCCP has jurisdiction and that have a project cost above $35 million. DOT will require project sponsors with costs above $35 million that receive awards under this funding opportunity to partner with OFCCP, if selected by OFCCP, as a condition of their DOT award. Under that partnership, OFCCP will ask these project sponsors to make clear to prime contractors in the pre-bid phase that project sponsor's award terms will require their participation in the Mega Construction Project Program. Additional information on how OFCCP makes their selections for participation in the Mega Construction Project Program is outlined under “Scheduling” on the Department of Labor website: https://www.dol.gov/agencies/ofccp/faqs/construction-compliance.

It is the policy of the United States to strengthen the security and resilience of its critical infrastructure against both physical and cyber threats. Each applicant selected for Federal funding under this notice must demonstrate, prior to signing of the grant agreement, efforts to consider and address physical and cyber security risks relevant to the transportation mode and type and scale of the project. Projects that have not appropriately considered and addressed physical and cyber security and resilience in their planning, design, and project oversight, as determined by the Department and the Department of Homeland Security, will be required to do so before receiving funds for construction, consistent with Presidential Policy Directive 21—Critical Infrastructure Security and Resilience and the National Security Presidential Memorandum on Improving Cybersecurity for Critical Infrastructure Control Systems. Additional information on cybersecurity performance goals can be found at https://www.cisa.gov/cpg.¹⁸

¹⁸ These performance goals provide a baseline set of cybersecurity practices broadly applicable across critical infrastructure with known risk-reduction value, a benchmark for critical infrastructure operators to measure and improve their cybersecurity maturity, and a combination of recommended practices for IT and OT owners, including a prioritized set of security practices.

Assistance under this NOFO is subject to the Buy America requirements in 49 U.S.C. 22905(a) and the Build America, Buy America Act, Public Law 117-58, 70901-52. In addition, as expressed in Executive Order 14005, Ensuring the Future Is Made in All of America by All of America's Workers (86 FR 7475), it is the policy of the executive branch to maximize, consistent with law, the use of goods, products, and materials produced in, and services offered in, the United States. FRA expects all applicants to comply with that requirement without needing a waiver. However, to obtain a waiver, an applicant must be prepared to demonstrate how they will maximize the use of domestic goods, products, and materials in constructing their project. If an applicant anticipates it may need a waiver, the applicant should indicate the need in its application and submit materials necessary for such requests together with its application.

Grantees must comply with applicable appropriations act requirements. Rights to intangible property under grants awarded under this NOFO are governed in accordance with 2 CFR 200.315. See an example of standard terms and conditions for FRA grant awards at https://railroads.fra.dot.gov/elibrary/award-administration-and-grant-conditions. This template is subject to revision.

3. Reporting

a. Progress Reporting on Grant Activity: Each applicant selected for a grant will be required to comply with all standard FRA reporting requirements, including quarterly progress reports, quarterly Federal financial reports, and interim and final performance reports, as well as all applicable auditing, monitoring and close out requirements. Reports may be submitted electronically. Pursuant to 2 CFR 170.210, non-Federal entities applying under this NOFO must have the necessary processes and systems in place to comply with the reporting requirements should they receive Federal funding.

b. Additional Reporting: Applicants selected for funding are required to comply with all reporting requirements in the standard terms and conditions for FRA grant awards including 2 CFR 180.335 and 2 CFR 180.350. If the total value of a selected applicant's currently active grants, cooperative agreements, and procurement contracts from all Federal awarding agencies exceeds $10,000,000 for any period of time during the period of performance of this Federal award, then the applicant must, consistent with 2 CFR part 200 Appendix XII, maintain the information reported to SAM and ensure that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

c. Performance and Program Evaluation: Recipients and subrecipients are also encouraged to incorporate program evaluation, including associated data collection activities from the outset of their program design and implementation, to meaningfully document and measure their progress towards meeting an agency priority goal(s). Title I of the Foundations for Evidence-Based Policymaking Act of 2018 (Evidence Act), Public Law 115-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, Part 6 Section 290). For grant recipients receiving an award, evaluation costs are allowable costs (either as direct or indirect), unless prohibited by statute or regulation, and such costs may include the personnel and equipment needed for data infrastructure and expertise in data analysis, performance, and evaluation. (2 CFR part 200).

d. Performance Reporting: Each applicant selected for funding must collect information and report on the project's performance using measures mutually agreed upon by FRA and the grantee to assess progress in achieving strategic goals and objectives. Examples of some rail performance measures are listed in the table below. The applicable measure(s) will depend upon the type of project. Applicants requesting funding for rolling stock must integrate at least one equipment/rolling stock performance measure, consistent with the grantee's application materials and program goals.

Performance Measure
Rail measures | Unit measured | Temporal | Primary strategic goal | Secondary strategic goal | Description
Slow Order Miles Reduced | Miles | Annual | State of Good Repair | Safety | The number of miles per year within the project area that have temporary speed restrictions (“slow orders”) imposed due to track condition. This is an indicator of the overall condition of track. This measure can be used for projects to rehabilitate sections of a rail line since the rehabilitation should eliminate, or at least reduce the slow orders upon project completion.
Number of Passenger Trains | Count | Annual | Economic Competitiveness | Safety | The number of daily passenger trains between city pairs.
Passenger Counts | Count | Annual | Economic Competitiveness | State of Good Repair | Count of the annual passenger boardings and alightings at stations within the project area.
Delay Minutes | Time/Trip | Annual | Economic Competitiveness | Quality of Life | Point-to-point delay minutes reduced between pre-determined station stops within the project area. This measure demonstrates how track improvements and other upgrades improve operations on a rail line. It also helps make sure the railroad is maintaining the line after project completion.
Track Miles | Miles | One Time | State of Good Repair | Economic Competitiveness | The number of track miles replaced, rehabilitated, or added within the project area. This measure can be beneficial for projects building sidings or sections of additional main line track on a railroad.

a. Program Evaluation: As a condition of grant award, grantees may be required to participate in an evaluation undertaken by DOT, or another agency or partner. The evaluation may take different forms such as an implementation assessment across grant recipients, an impact and/or outcomes analysis of all or selected sites within or across grantee, or a benefit/cost analysis or assessment of return on investment. The Department may require applicants to collect data elements to aid the evaluation. As a part of the evaluation, as a condition of award, grantee must agree to: (1) make records available to the evaluation contractor; (2) provide access to program records, and any other relevant documents to calculate costs and benefits; (3) in the case of an impact analysis, facilitate the access to relevant information as requested; and (4) follow evaluation procedures as specified by the evaluation contractor or DOT staff.

G. Federal Awarding Agency Contacts

For further information concerning this Notice, please contact the FRA NOFO Support program staff via email at FRA-NOFO-Support@dot.gov. If additional assistance is needed, you may contact Mr. Douglas Gascon; email: douglas.gascon@dot.gov; telephone: 202-493-2039; Mr. Sergio Coronado; email: Sergio.Coronado@dot.gov; telephone: 617-571-1213; or Ms. Deborah Kobrin; email: deborah.kobrin@dot.gov; telephone: 202-493-0765 in FRA's Office of Rail Program Development.

H. Other Information

On May 13, 2022, FRA published a Notice in the Federal Register that established and requested expressions of interest in the Corridor Identification and Development Program. Eligible applicants to the Corridor Identification and Development Program, as outlined within 49 U.S.C. 25101, are encouraged to submit an expression of interest. While the expression of interest is non-binding and does not obligate an applicant to pursue the proposed corridor, FRA has begun to use these expressions of interest to engage with stakeholders as the Corridor Identification and Development Program is implemented. Furthermore, once corridors are selected under the Corridor Identification and Development Program, they will receive a statutory selection preference as part of subsequent FSP-National funding opportunities.

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The DOT regulations implementing the Freedom of Information Act (FOIA) are found at 49 CFR part 7 Subpart C—Availability of Reasonably Described Records under the Freedom of Information Act which sets forth rules for FRA to make requested materials, information, and records publicly available under FOIA. Unless prohibited by law and to the extent permitted under the FOIA, contents of application and proposals submitted by successful applicants may be released in response to FOIA requests. In addition, following the completion of the selection process and announcement of awards, FRA may publish a list of all applications received along with the names of the applicant organizations and funding amounts requested. Except for information withheld under the previous paragraph, FRA may also make application narratives publicly available or share application information within DOT or with other Federal agencies if FRA determines that sharing is relevant to the respective program's objectives.

Issued in Washington, DC.
Amitabha Bose,
Administrator.

[FR Doc. 2022-26610 Filed 12-6-22; 8:45 am]

BILLING CODE 4910-06-P